NUCLEAR REGULATORY COMMISSION

Sunshine Act Notice

Date: Weeks of July 25, August 1, 8, 15, 22, 29, 2005.

Place: Commissioners' Conference Room, 11555 Rockville Pike, Rockville, Maryland.

Status: Public and closed.

Matters to be Considered:

Week of July 25, 2005

Thursday, July 28, 2005:

1:25 p.m. Affirmation Session (Public Meeting) (Tentative). a. (1) Exelon Generation Company, LLC Early Site Permit for Clinton ESP Site), Docket No. 52-007-ESP; (2) Dominion Nuclear North Anna, LLC (Early Site Permit for North Anna ESP Site), Docket No. 52-008-ESP; (3) System Energy Resources, Inc. (Early Site Permit for Grand Gulf ESP Site), Docket No. 52-009-ESP; (4) Louisiana Energy Services, L.P. (National Enrichment Facility), Docket No. 70-3103-ML; (5) USEC Inc. (American Centrifuge Plant), Docket No. 70-7004 (Tenative).

1:30 p.m. Discussion of Security Issues (Closed-Ex. 1).

Week of August 1, 2005—Tentative

There are no meetings scheduled for the week of August 1, 2005.

Week of August 8, 2005—Tentative

There are no meetings scheduled for the week of August 8, 2005.

Week of August 15, 2005—Tentative

Tuesday, August 16, 2005:

10 a.m. Meeting with the Organization of Agreement States (OAS) and the Conference of Radiation Control Program Directors (CRCPD) (Public Meeting) (Contact: Shawn Smith, 301-415-2620).

This meeting will be webcast live at the Web address— http://www.nrc.gov.

1 p.m. Discussion of Security Issues (Closed-Ex. 1).

Week of August 22, 2005—Tentative

There are no meetings scheduled for the week of August 22, 2005.

Week of August 29, 2005—Tentative

There are no meetings scheduled for the week of August 29, 2005.

*The schedule for Commission meetings is subject to change on short notice. To verify the status of meetings call (recording)—(301) 415-1292. Contact person for more information: David Gamberoni, (301) 415-1651.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers: If you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: July 20, 2005.
Sandy Joosten,
Office of the Secretary.

[FR Doc. 05-14674 Filed 7-21-05; 10:30 am]

BILLING CODE 7590-01-M